DEPARTMENT OF COMMERCE

International Trade Administration

[C-533-839]

Carbazole Violet Pigment 23 From India: Continuation of Countervailing Duty Order

AGENCY: Import Administration, International Trade Administration, Department of Commerce.

SUMMARY: As a result of the determinations by the Department of Commerce (the Department) and the International Trade Commission (ITC) that revocation of the countervailing duty (CVD) order on CVP-23 would likely lead to continuation of countervailable subsidies, and material injury to an industry in the United States, the Department is publishing a notice of continuation of this CVD order.

DATES: Effective Date: May 27, 2010.

FOR FURTHER INFORMATION CONTACT: Martha Douthit at (202) 482-5050, or Dana Mermelstein at (202) 482-1391, AD/CVD Operations, Office 6, Import Administration, International Trade Administration, U.S. Department of Commerce, 14th Street and Constitution Avenue, NW., Washington, DC 20230.

SUPPLEMENTARY INFORMATION:

Background

The CVD order was published in the Federal Register on December 24, 2004. See Notice of Countervailing Duty Order: Carbazole Violet Pigment 23 From India, 69 FR 77995 (December 29, 2004).

On November 2, 2009, the Department initiated and the ITC instituted a sunset review of the CVD order on CVP-23 from India pursuant to section 751(c) of the Tariff Act of 1930, as amended (the Act). See Initiation of Five-Year (“Sunset”) Reviews, 74 FR 56593 (November 2, 2009). As a result of its review, the Department found that revocation of the CVD order would likely lead to continuation or recurrence of countervailable subsidies, and notified the ITC of the magnitude of the net countervailable subsidies likely to prevail were the order to be revoked. See Carbazole Violet Pigment 23 from India: Final Results of the Expedited Five-year (Sunset) Review of the Countervailing Duty Order, 75 FR 13257 (March 19, 2010).

On May 10, 2010, pursuant to section 751(c) of the Act, the ITC determined that revocation of the CVD order on CVP-23 from India, would likely lead to continuation or recurrence of material injury to an industry in the United States within a reasonable foreseeable time. See Carbazole Violet Pigment 23 from China and India; Determinations, 75 FR 27815 (May 18, 2010).

Scope of the Order

The merchandise covered by this order is CVP-23 identified as Color Index No. 51319 and Chemical Abstract No. 6358-30-1, with the chemical name of diindolo [3,2-b:3′,2′-m] triphenodioxazine, 8,18-dichloro-5,15-diethy-5,15-dihydro-, and molecular formula of C34H22Cl2N4O2.¹ The subject merchandise includes the crude pigment in any form (e.g., dry powder, paste, wet cake) and finished pigment in the form of presscake and dry color. Pigment dispersions in any form (e.g., pigments dispersed in oleoresins, flammable solvents, water) are not included within the scope of the order. The merchandise subject to this order is classifiable under subheading 3204.17.9040 of the Harmonized Tariff Schedule of the United States (HTSUS). Although the HTSUS subheading is provided for convenience and customs purposes, the written description of the merchandise under the order is dispositive.

¹ The bracketed section of the product description, [3,2-b:3′,2′-m], is not business proprietary information; the brackets are part of the chemical nomenclature. See December 4, 2003 amendment to petition (supplemental petition) at 8.

Continuation of the Order

As a result of the determinations by the Department and the ITC that revocation of the CVD order would likely lead to continuation or recurrence of countervailable subsidies, and material injury, to an industry in the United States, pursuant to section 751(d)(2) of the Act, the Department hereby orders the continuation of the CVD order on CVP-23 from India.

U.S. Customs and Border Protection will continue to collect CVD cash deposits at the rates in effect at the time of entry for all imports of subject merchandise. The effective date of continuation of this order will be the date of publication in the Federal Register of this notice of continuation. Pursuant to section 751(c)(2) and 751(c)(6)(A) of the Act, the Department intends to initiate the next five-year (sunset) review of this order not later than 30 days prior to the fifth anniversary of the effective date of continuation.

This five-year (sunset) review and this notice are in accordance with section 751(c) of the Act. This notice is published pursuant to 751(c) and 771(i) of the Act and 19 CFR 351.218(f)(4).

Dated: May 21, 2010.
Ronald K. Lorentzen,
Deputy Assistant Secretary for Import Administration.

[FR Doc. 2010-12820 Filed 5-26-10; 8:45 am]

BILLING CODE 3510-DS-P